DEPARTMENT OF THE INTERIOR

National Park Service

Juan Bautista de Anza National Historic Trail Advisory Commission; Notice of Meeting

SUMMARY: Notice is given in accordance with the Federal Advisory Committee Act that the first meeting of the Juan Bautista de Anza National Historic Trail Advisory Commission will be held from 8:30 a.m. to 4:30 p.m. at the following location and dates.

DATES: Monday, March 31 and Tuesday April 1, 2003.

ADDRESSES: The meeting will be held at the offices of the Pima County Parks and Recreation Department, 3500 West River Road, Tucson, Arizona 85741. A field trip to trail sites along the Santa Cruz River in Tucson, Tubac Presidio State Historic Park, and Tumacacori National Historical Park will occur on the afternoon of March 31. The public is welcome, but transportation will only be provided to commission members.

FOR FURTHER INFORMATION AND COPIES OF MEETING MINUTES CONTACT: Meredith Kaplan, Juan Bautista de Anza National Historic Trail, 1111 Jackson Street, Suite 700, Oakland, California 94607, at 510-817-1438, or meredith_kaplan@nps.gov.

SUPPLEMENTARY INFORMATION: The Advisory Commission was established in accordance with the National Trails System Act 915 U.S.C. 1241 et seq.), as amended by Public Law 191-365 to consult with the Secretary of the Interior on planning and other matters relating to the trail.

Agenda

1. Welcome and introductions

2. Review of Commission purpose and responsibilities

3. Background of accomplishments since 1990 trail authorization

4. Overview, discussion, and recommendations for the Long Range Interpretive Plan

5. Development of strategic plan

This meeting is open to the public and opportunity will be provided for public comments at specific times during the meeting and prior to closing the meeting. The meeting will be recorded for documentation and transcribed for dissemination. Minutes of the meeting will be available to the public after approval of the full Advisory Commission.

Dated: February 4, 2003.
Arthur Eck,
Acting Regional Director, Pacific West Region.

[FR Doc. 03-6519 Filed 3-18-03; 8:45 am]

BILLING CODE 4310-70-P